DEPARTMENT OF AGRICULTURE

Office of Advocacy and Outreach

Notice of Request for Approval of Information Collection

AGENCY: Office of Advocacy and Outreach, USDA.

ACTION: Notice and request for comments.

SUMMARY: In accordance with the Paperwork Reduction Act of 1995, this notice announces the Office of Advocacy and Outreach's (OAO) intent to request approval from the Office of Management and Budget (OMB) to conduct data collection for the U.S. Department of Agriculture (USDA) Hispanic-Serving Institutions (HSI) Scholars Program.

DATES: Comments on this notice must be received by August 1, 2017 to be assured of consideration.

ADDRESSES: The Office of Advocacy and Outreach invites interested persons to submit comments on this notice. Comments may be submitted by one of the following methods:

Federal eRulemaking Portal: This Web site (http://www.regulations.gov) provides the ability to type short comments directly into the comment field on this Web page or attach a file for lengthier comments. Follow the on-line instructions at that site for submitting comments. Send mail, including CD-ROMs, etc., to: Jacqueline Padron, U.S. Department of Agriculture, Office of Advocacy and Outreach, 1400 Independence Avenue SW., Whitten Building Room 520-A, Mailstop 0601, Washington, DC 20250.

Hand or courier submittals should be delivered to: Office of Advocacy and Outreach, 1400 Independence Avenue SW., Whitten Building Room 520-A, Mailstop 0601, Washington, DC 20250.

Instructions: All items submitted by mail or electronic mail must include Office of Advocacy and Outreach, U.S. Department of Agriculture. Comments received in response to this docket will be made available for public inspection and posted without change, including any personal information, to http://www.regulations.gov.

Docket: For access to background documents or comments received, please contact the Office of Advocacy and Outreach, 1400 Independence Avenue SW., Whitten Building Room 520-A, Mailstop 0601, Washington, DC 20250, between 8:00 a.m. and 4:30 p.m., Monday through Friday.

FOR FURTHER INFORMATION CONTACT: Jacqueline Padron, Program Director, Hispanic-Serving Institutions National Program (HSINP), USDA OAO, 1400 Independence Avenue SW., Room 520-A, Mailstop 0601, Washington, DC 20250, email: hsinp@osec.usda.gov, Telephone: (202) 720-6506, Fax: (202) 720-7704.

SUPPLEMENTARY INFORMATION: Title: USDA/HSI Scholars Program.

OMB Number: 0503-New.

Expiration Date of Approval: 3 years from approval date.

Type of Request: New information collection.

Abstract: The purpose of the USDA/HSI Scholars Program is to strengthen the long-term partnership between USDA and the Hispanic-Serving Institutions; to increase the number of students studying and graduating in food, agriculture, natural resources, and other related fields of study; to develop a pool of scientists and professionals to fill jobs in the food, agricultural, or natural resources system; and to create a talent pipeline for USDA.

The USDA/HSI Scholars Program is a joint human capital initiative between USDA and Hispanic-Serving Institutions. Through the program, the USDA offers scholarships to high school and college students who are seeking a bachelor's degree in the fields of agriculture, food, or natural resource sciences, and related disciplines at Hispanic-Serving Institutions. In order for graduating high school students and current freshmen and sophomores to be considered for the scholarship, a completed application is required. The first section of the high school application requests the applicant to include biographical information (e.g., name, address, etc.); educational background information (e.g., grade point average, name of university(ies) interested in attending, and desired major); and extracurricular activities. The second section of the application is completed by the student's guidance counselor and requests information pertaining to the student's academic status and grade point average. The last section of the application, which is to be completed by a teacher, provides information that assesses the applicant's interests, character, and potential. In addition to the application form, the college submission requires two letters of recommendation—one from a Department Head, Dean or University Vice President, and another from a College Professor. There are no sections included in the application that these individuals will need to complete.

Frequency: Annually.

Estimate of Burden: Public reporting burden for this collection of information is estimated to average one to two hours per response.

Respondents: High School students, freshman and sophomore college students, teachers, principals, guidance counselors, and school administrators.

Estimated Number of Respondents: 600 (200 applications).

Estimated Number of Responses per Respondent: 1.

Estimated Total Annual Burden on Respondents: 700 hours.

Comments are invited on: (1) Whether the proposed collection of information is necessary for the proper performance of the functions of the agency, including whether the information will have practical utility; (2) the accuracy of the agency's estimate of the burden of the proposed collection of information; (3) ways to enhance the quality, utility, and clarity of the information to be collected; and (4) ways to minimize the burden of the collection of information on respondents, including the use of appropriate automated, electronic, mechanical, or other technological collection techniques or other forms of information technology.

Comments may be sent to Jacqueline Padron, Program Director, Hispanic-Serving Institutions National Program, USDA Office of Advocacy and Outreach, 1400 Independence Avenue SW., Room 520-A, Mail Stop 0601, Washington, DC 20250, or via email at: hsinp@osec.usda.gov. All comments received will be available for public inspection during regular business hours at the same address.

All responses to this notice will be summarized and included in the request for OMB's approval.

All comments will become a matter of public record.

Signed this 23rd day of May 2017.
Christian Obineme,
Associate Director, Office of Advocacy and Outreach.

[FR Doc. 2017-11389 Filed 6-1-17; 8:45 am]

BILLING CODE 3412-89-P